DEPARTMENT OF JUSTICE

Statement of Claim for Filing of Claims in the Guam Claims Program Pursuant to the Guam World War II Loyalty Recognition Act; Correction

AGENCY: Foreign Claims Settlement Commission, Department of Justice.

ACTION: Notice; correction.

SUMMARY: The Foreign Claims Settlement Commission, Department of Justice (DOJ), published a document in the Federal Register of August 1, 2023, concerning request for comments on the Statement of Claim for filing of Claims in the Guam Claims Program Pursuant to the Guam World War II Loyalty Recognition Act.

DATES: Submit comments on the Statement of Claim for filing of Claims in the Guam Claims Program Pursuant to the Guam World War II Loyalty Recognition Act before October 2, 2023.

FOR FURTHER INFORMATION CONTACT: Jeremy LaFrancois, 202-616-6981.

SUPPLEMENTARY INFORMATION:

Correction

In the Federal Register of August 1, 2023, in FR Doc. 2023-16291, on page 50174, third column, in the AGENCY and SUMMARY captions, correct the agency name to read: Foreign Claims Settlement Commission.

Dated: August 17, 2023.
Darwin Arceo,
Department Clearance Officer for PRA, U.S. Department of Justice.

[FR Doc. 2023-18219 Filed 8-23-23; 8:45 am]

BILLING CODE 4410-18-P